AGENCY FOR INTERNATIONAL DEVELOPMENT

Agency Information Collection Activities: Proposed Collection; Comment Request; Generic Clearance for the Collection of Qualitative Feedback on Agency Service Delivery

AGENCY: U.S. Agency for International Development (USAID).

ACTION: Notice of information collection; request for comment.

SUMMARY: In accordance with the Information Collection Review procedures of the Paperwork Reduction Act of 1995 (PRA), the United States Agency for International Development (USAID), is seeking comment on the proposed Generic Clearance for the Collection of Qualitative Feedback on Agency Service Delivery. The Agency will use surveys and forms to collect, analyze, and interpret information gathered through this generic clearance to identify strengths and weakness of the current services, information, and to make improvements in customer service.

DATES: All comments should be submitted within 60 calendar days from the date of this publication.

ADDRESSES: Comments submitted in response to this notice should be submitted to the icrteam@usaid.gov.

FOR FURTHER INFORMATION CONTACT: Requests for additional information should be directed to Kelly Hamilton at 202-921-5016, icrteam@usaid.gov.

SUPPLEMENTARY INFORMATION: The proposed information collection activity provides a means to garner qualitative customer and stakeholder feedback in an efficient, timely manner. By qualitative feedback we mean information that provides useful insights on perceptions and opinions but are not statistical surveys that yield quantitative results that can be generalized to the population of study. This feedback will provide insights into customer or stakeholder perceptions, experiences and expectations, provide an early warning of issues with service, or focus attention on areas where communication, training, or changes in operations might improve delivery of products or services. These collections will allow for ongoing, collaborative, and actionable communications between the Agency and its customers and stakeholders. It will also allow feedback to contribute directly to the improvement of program management.

The Agency will collect, analyze, and interpret information gathered through this generic clearance to identify strengths and weaknesses of the current services, information, and make improvements in service delivery based on feedback. The solicitation of feedback will target areas such as: timeliness, appropriateness, accuracy of information, courtesy, efficiency of service delivery, and resolution of issues with service delivery. Responses will be assessed to plan and inform efforts to improve or maintain the quality of service offered to the public.

The Agency will only submit a collection for approval under this generic clearance if it meets the following conditions:

• Information gathered will be used only internally for general service improvement and program management purposes and is not intended for release outside of the agency (if released, procedures outlined in Question 16 will be followed);

• Information gathered will not be used for the purpose of substantially informing influential policy decisions;

• Information gathered will yield qualitative information; the collections will not be designed or expected to yield statistically reliable results or used as though the results are generalizable to the population of study;

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future; and

• With the exception of information needed to provide remunerations for participants of focus groups and cognitive laboratory studies, personally identifiable information (PII) is collected only to the extent necessary and is not retained.

As a general matter, information collections will not result in any new system of records containing privacy information and will not ask questions of a sensitive nature, such as sexual behavior and attitudes, religious beliefs, and other matters that are commonly considered private.

Below we provide projected average burden estimates for the next three years:

Estimated Annual Number of Respondents: 10,000.

Responses per Respondent: 1.

Annual Responses: 10,000.

Average Minutes per Response: 15 minutes.

Annual Burden Hours: 30,000 hours.

Frequency: On occasion.

Dated: October 26, 2023.
Taniesha Tolbert,
Supervisory Records Information Management Specialist, Bureau for Management, Office of Management Services, Information and Records Division.

[FR Doc. 2023-23986 Filed 10-30-23; 8:45 am]

BILLING CODE 6116-01-P